DEPARTMENT OF THE INTERIOR

Bureau of Land Management

[CO-200-03-1010-NQ]

Notice of Availability for Public Comment of an Administrative Order Concerning the Dinero Mine Located Near Leadville, CO

AGENCY: Bureau of Land Management, Interior.

ACTION: Notice of availability for public comment of an administrative order on consent concerning the dinero mine located near Leadville, Colorado.

SUMMARY: Pursuant to section 122(1) of the Comprehensive Environmental Response, Compensation, and Liability Act (CERCLA), 42 U.S.C. 9622(1), notice is hereby given that the Bureau of Land Management (BLM), by and through the Department of the Interior, and the Environmental Protection Agency (EPA), have signed a proposed Administrative Order on Consent (AOC) concerning the Dinero Complex Site (Site) located near Leadville, Colorado. The Department of Justice has issued its concurrence with the AOC.

The Site affects public land managed by BLM and includes private land owned by John D. Lundquist (Lundquist). The Site includes two mine waste rock piles estimated to contain approximately 40,000 cubic yards of material extracted from the nearby Dinero mine tunnel. The piles are partially located on wetlands within the Sugarloaf Gulch drainage, a tributary of the Lake Fork of the Arkansas River. Several studies conducted at the Site indicate that the two mine waste rock piles contain toxic metal compounds which, when coming into contact with surface and ground water, release toxic metals and acidic drainage into the nearby wetlands and downstream surface waters. After completing an engineering evaluation/cost analysis (EE/CA) of response alternatives, BLM selected a non-time critical removal action to address releases from the two mine waste rock piles. Under the selected alternative, BLM will remove the waste from the gulch and consolidate it into two on-site repositories, which will be covered and revegetated. In addition, hydrological controls will be installed so as to minimize contact of surface water runoff with the repositories.

Through the proposed AOC, the United States and Mr. Lundquist would resolve the alleged liability of Mr. Lundquist under section 107 of CERCLA, 42 U.S.C. 9607. Mr. Lundquist would provide access and materials needed to implement the removal action, and would authorize the construction of a portion of the mine waste rock repositories on his lands. In addition, Mr. Lundquist would grant a covenant running with the land that would prevent disturbance of the portion of his lands subject to removal action.

DATES: BLM will receive comments on the proposed AOC until July 11, 2003. Comments should refer to the Dinero Complex Site. The proposed AOC may be examined at the BLM Royal Gorge Field Office in Canon City, Colorado, or at the Timberline Campus of the Colorado Mountain College in Leadville, Colorado.

ADDRESSES: A copy of the proposed AOC may also be obtained from the BLM Royal Gorge Field Office upon request. Comments or requests to obtain a copy of the proposed AOC should be addressed to: Dan Grenard, BLM Royal Gorge Field Office, 3170 East Main Street, Canon City, Colorado 81212, (719) 269-8500.

Robert H. Robinson,
Abandoned Mine Land Program, Division of Energy, Lands and Minerals.

[FR Doc. 03-14625 Filed 6-10-03; 8:45 am]

BILLING CODE 4310-JG-P